ENVIRONMENTAL PROTECTION AGENCY

40 CFR Part 152

[EPA-HQ-OPP-2010-0305; FRL-9328-5]

RIN 2070-AJ79

Notification of Draft Proposed Rule Submission to the Secretaries of Agriculture and Health and Human Services

AGENCY: Environmental Protection Agency (EPA).

ACTION: Notification of submission to the Secretaries of Agriculture and Health and Human Services.

SUMMARY: This document notifies the public that EPA has forwarded to the Secretary of the United States Department of Agriculture and the Secretary of the United States Department of Health and Human Services a draft proposed rule under sections 21(b) and 25(a) of the Federal Insecticide, Fungicide, and Rodenticide Act (FIFRA), entitled “Pesticides; Revisions to Minimum Risk Exemptions” and identified in the Regulatory Agenda under RIN 2070-AJ79. FIFRA requires EPA to publish a notice in the Federal Register whenever such a submission occurs. The draft proposed rule is not available to the public until after it has been signed by EPA.

ADDRESSES: EPA has established a docket for this action under docket identification (ID) number EPA-HQ-OPP-2010-0305. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Martha Shimkin, Field and External Affairs Division (7506P), Office of Pesticide Programs, Environmental Protection Agency, 1200 Pennsylvania Ave. NW., Washington DC 20460-0001; telephone number: (703) 305-5160; email address: shimkin.martha@epa.gov.

SUPPLEMENTARY INFORMATION:

I. Does this action apply to me?

This action is directed to the public in general. It simply announces the submission of a draft proposed rule to the Secretary of Agriculture and the Secretary of Health and Human Services and does not otherwise affect any specific entities. This action may, however, be of particular interest to manufacturers, distributors, retailers, and users of minimum risk pesticide products as described in 40 CFR 152.25(f). Since other entities may also be interested, the Agency has not attempted to describe all the specific entities that may be interested in this action. If you have any questions regarding this action, consult the person listed under FOR FURTHER INFORMATION CONTACT.

II. What action is EPA taking?

Section 25(a)(2)(A) of FIFRA requires EPA to provide the Secretary of Agriculture with a copy of any draft proposed rule at least 60 days before signing it in proposed form for publication in the Federal Register. Similarly, FIFRA section 21(b) requires EPA to provide the Secretary of Health and Human Services with a copy of any draft proposed rule pertaining to a public health pesticide at least 60 days before publishing it in the Federal Register. The draft proposed rule is not available to the public until after it has been signed by EPA. If either Secretary comments in writing regarding the draft proposed rule within 30 days after receiving it, EPA shall include in the proposed rule, when published in the Federal Register, the comments of the Secretaries and the EPA Administrator's response to those comments. If either Secretary does not comment in writing within 30 days after receiving the draft proposed rule, EPA may proceed with signing the proposed rule notwithstanding the 60 day time requirement imposed on EPA.

III. Do any statutory and Executive Order reviews apply to this notification?

No. This document is not a proposed rule. It is merely a notification of submission to the Secretary of Agriculture and the Secretary of Health and Human Services. As such, none of the regulatory assessment requirements apply to this document.

List of Subjects in 40 CFR Part 152

Environmental protection, Administrative practice and procedure, Agricultural commodities, Pesticides and pests, Reporting and recordkeeping requirements.

Dated: November 28, 2011.
Steven Bradbury,
Director, Office of Pesticide Programs.

[FR Doc. 2011-31540 Filed 12-6-11; 8:45 am]

BILLING CODE 6560-50-P